DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On September 21, 2020, OFAC determined that determined that the property and interests in property subject to U.S. jurisdiction of the following person are blocked under the relevant sanctions authorities listed below.

Individuals

1. DEZFULIAN, Mohammed Reza (a.k.a. DEZFULIAN, Mohammad Reza), Iran; POB Tehran, Iran; nationality Iran; Additional Sanctions Information—Subject to Secondary Sanctions; Gender Male; National ID No. 0061496766 (Iran) (individual) [NPWMD] [IFSR] (Linked To: MAMMUT DIESEL).

Designated pursuant to section 1(a)(iv) of Executive Order 13382 of June 28, 2005, 70 FR 38567, 3 CFR, 2006 Comp., p. 170 (E.O. 13382) for acting or purporting to act for or on behalf of, directly or indirectly, MAMMUT DIESEL, a person whose property and interests in property are blocked pursuant to E.O. 13382.

ESMA'ILPUR, Asghar, Iran; DOB 07 Mar 1973; POB Tehran, Iran; citizen Iran; Additional Sanctions Information—Subject to Secondary Sanctions; Gender Male; National ID No. 0059243228 (Iran) (individual) [NPWMD] [IFSR] (Linked To: AEROSPACE INDUSTRIES ORGANIZATION).

Designated pursuant to section 1(a)(iv) of E.O. 13382 for acting or purporting to act for or on behalf of, directly or indirectly, AEROSPACE INDUSTRIES ORGANIZATION, a person whose property and interests in property are blocked pursuant to E.O. 13382.

2. FERDOWS, Behzad Daniel, Dubai, United Arab Emirates; DOB 14 Mar 1969; POB Tehran, Iran; nationality Iran; alt. nationality Germany; Additional Sanctions Information—Subject to Secondary Sanctions; Gender Male; Passport C4KNRMNCF (Germany) expires 18 Mar 2018; National ID No. 0037251910 (Iran) (individual) [NPWMD] [IFSR] (Linked To: MAMMUT INDUSTRIAL GROUP P.J.S).

Designated pursuant to section 1(a)(iv) of E.O. 13382 for acting or purporting to act for or on behalf of, directly or indirectly, MAMMUT INDUSTRIAL GROUP P.J.S, a person whose property and interests in property are blocked pursuant to E.O. 13382.

3. FERDOWS, Mehrzad Manuel, Iran; DOB 23 Jul 1970; POB Tehran, Iran; nationality Iran; alt. nationality Germany; Additional Sanctions Information—Subject to Secondary Sanctions; Gender Male; Passport C4JRGPJ7H (Germany) expires 11 Mar 2019; alt. Passport J32379304 (Iran); National ID No. 0055124240 (Iran) (individual) [NPWMD] [IFSR] (Linked To: MAMMUT INDUSTRIAL GROUP P.J.S).

Designated pursuant to section 1(a)(iv) of E.O. 13382 for acting or purporting to act for or on behalf of, directly or indirectly, MAMMUT INDUSTRIAL GROUP P.J.S, a person whose property and interests in property are blocked pursuant to E.O. 13382.

4. GHANNADI MARAGHEH, Mohammad (a.k.a. GHANNADI, Mohammad; a.k.a. GHANNADI-MARAGHEH, Mohammad; a.k.a. QANNADI, Mohammad), Tehran, Iran; DOB 13 Oct 1952; POB Maragheh, Iran; nationality Iran; Additional Sanctions Information—Subject to Secondary Sanctions; Gender Male (individual) [NPWMD] [IFSR] (Linked To: ATOMIC ENERGY ORGANIZATION OF IRAN).

Designated pursuant to section 1(a)(iv) of E.O. 13382 for acting or purporting to act for or on behalf of, directly or indirectly, ATOMIC ENERGY ORGANIZATION OF IRAN, a person whose property and interests in property are blocked pursuant to E.O. 13382.

5. GHOLAMI, Mohammad, Iran; DOB 26 Dec 1973; POB Bojnord, Iran; nationality Iran; Additional Sanctions Information—Subject to Secondary Sanctions; Gender Male; National ID No. 5249398618 (Iran) (individual) [NPWMD] [IFSR] (Linked To: SHAHID HEMMAT INDUSTRIAL GROUP).

Designated pursuant to section 1(a)(iv) of E.O. 13382 for acting or purporting to act for or on behalf of, directly or indirectly, SHAHID HEMMAT INDUSTRIAL GROUP, a person whose property and interests in property are blocked pursuant to E.O. 13382.

6. KAMALVANDI, Behrouz, Iran; DOB 1955; alt. DOB 1956; POB Tehran, Iran; nationality Iran; Additional Sanctions Information—Subject to Secondary Sanctions; Gender Male (individual) [NPWMD] [IFSR] (Linked To: ATOMIC ENERGY ORGANIZATION OF IRAN).

Designated pursuant to section 1(a)(iv) of E.O. 13382 for acting or purporting to act for or on behalf of, directly or indirectly, ATOMIC ENERGY ORGANIZATION OF IRAN, a person whose property and interests in property are blocked pursuant to E.O. 13382.

7. KARIMI SABET, Javad (a.k.a. KARIMI-SABET, Javad), Iran; DOB 01 Jan 1973; POB Iran; nationality Iran; Additional Sanctions Information—Subject to Secondary Sanctions; Gender Male (individual) [NPWMD] [IFSR] (Linked To: ATOMIC ENERGY ORGANIZATION OF IRAN).

Designated pursuant to section 1(a)(iv) of E.O. 13382 for acting or purporting to act for or on behalf of, directly or indirectly, ATOMIC ENERGY ORGANIZATION OF IRAN, a person whose property and interests in property are blocked pursuant to E.O. 13382.

8. RAHIMIAN, Pezhman (a.k.a. RAHIMIAN, Pejman), Iran; POB Esfahan, Esfahan Province, Iran; nationality Iran; Additional Sanctions Information—Subject to Secondary Sanctions; Gender Male; National ID No. 1285917855 (Iran) (individual) [NPWMD] [IFSR] (Linked To: ATOMIC ENERGY ORGANIZATION OF IRAN).

Designated pursuant to section 1(a)(iv) of E.O. 13382 for acting or purporting to act for or on behalf of, directly or indirectly, ATOMIC ENERGY ORGANIZATION OF IRAN, a person whose property and interests in property are blocked pursuant to E.O. 13382.

Entities

9. ADVANCED TECHNOLOGIES COMPANY OF IRAN (f.k.a. GHANI SAZI ENRICHMENT; a.k.a. IRAN ADVANCED TECHNOLOGIES COMPANY; f.k.a. IRAN URANIUM ENRICHMENT COMPANY; f.k.a. IRANIAN ENRICHMENT COMPANY; a.k.a. “ADVANCED TECHNOLOGIES”; a.k.a. “ADVANCED TECHNOLOGIES COMPANY”; a.k.a. “ADVANCED TECHNOLOGIES HOLDING COMPANY”; a.k.a. “IATC”), Tehran, Iran; Additional Sanctions Information—Subject to Secondary Sanctions; National ID No. 10103378982 (Iran); Registration Number 299780 (Iran) [IRAN] [NPWMD] [IFSR] (Linked To: ATOMIC ENERGY ORGANIZATION OF IRAN).

Designated pursuant to section 1(a)(iv) of E.O. 13382 for being owned or controlled by ATOMIC ENERGY ORGANIZATION OF IRAN, a person whose property and interests in property are blocked pursuant to E.O. 13382.

10. MAMMUT DIESEL (a.k.a. MAMMUT DIESEL COMPANY), No. 158, 14th km, Makhsoos Road, Tehran 37515-335, Iran; website www.mammutdiesel.com; Additional Sanctions Information—Subject to Secondary Sanctions; National ID No. 10103952900 (Iran); Registration Number 1910 (Iran) [NPWMD] [IFSR] (Linked To: MAMMUT INDUSTRIAL GROUP P.J.S).

Designated pursuant to section 1(a)(iv) of E.O. 13382 for being owned or controlled by MAMMUT INDUSTRIAL GROUP P.J.S, a person whose property and interests in property are blocked pursuant to E.O. 13382.

11. MAMMUT INDUSTRIAL GROUP P.J.S (a.k.a. MAMMUT INDUSTRIAL GROUP; a.k.a. MAMMUT TEHRAN INDUSTRIAL GROUP; a.k.a. “MAMMUT INDUSTRIES”), Khaled Eslamboli Street, Seventh Street No. 7, Tehran 15875-7974, Iran; No. 65 Lofti Street, Tehran, Iran; Vozara Str, 7th Str No. 7, Tehran, Iran; website www.mammutco.com; Additional Sanctions Information—Subject to Secondary Sanctions; Registration Number 3167 (Iran) [NPWMD] [IFSR] (Linked To: SHAHID HEMMAT INDUSTRIAL GROUP).

Designated pursuant to section 1(a)(iv) of E.O. 13382 for having provided, or attempted to provide, financial, material, technological or other support for, or goods or services in support of, SHAHID HEMMAT INDUSTRIAL GROUP, a person whose property and interests in property are blocked pursuant to E.O. 13382.

12. MESBAH ENERGY COMPANY (a.k.a. MESBAH ENERGY; a.k.a. MESBAH ENERGY CO.), Science & Technology Park, Shahid Ghoddousi Blvd., Arak, Iran; Tehran, Iran; website www.isotope.ir; Additional Sanctions Information—Subject to Secondary Sanctions [IRAN] [NPWMD] [IFSR] (Linked To: ATOMIC ENERGY ORGANIZATION OF IRAN).

Designated pursuant to section 1(a)(iv) of E.O. 13382 for being owned or controlled by ATOMIC ENERGY ORGANIZATION OF IRAN, a person whose property and interests in property are blocked pursuant to E.O. 13382.

13. NUCLEAR SCIENCE AND TECHNOLOGY RESEARCH INSTITUTE (a.k.a. NUCLEAR SCIENCE AND TECHNOLOGY RESEARCH CENTER; a.k.a. NUCLEAR SCIENCES AND TECHNOLOGIES RESEARCH INSTITUTE; a.k.a. RESEARCH INSTITUTE OF NUCLEAR SCIENCE AND TECHNOLOGY; a.k.a. “NSTRI”), North Kargar Street, Tehran, Iran; North Kargar Ave., Tehran, Iran; website https://nstri.aeoi.org.ir/; alt. Website https://nstri.ir/; Additional Sanctions Information—Subject to Secondary Sanctions [IRAN] [NPWMD] [IFSR] (Linked To: ATOMIC ENERGY ORGANIZATION OF IRAN).

Designated pursuant to section 1(a)(iv) of E.O. 13382 for being owned or controlled by ATOMIC ENERGY ORGANIZATION OF IRAN, a person whose property and interests in property are blocked pursuant to E.O. 13382.

Dated: September 21, 2020.
Andrea M. Gacki,
Director, Office of Foreign Assets Control.

[FR Doc. 2020-21155 Filed 9-24-20; 8:45 am]

BILLING CODE 4810-AL-P